DEPARTMENT OF LABOR

Employment and Training Administration

[TA-W-74,296]

Meadwestvaco Corporation, Consumer and Office Products Division, Including On-Site Leased Workers From Pro-Tel People, Sidney, NY; Amended Certification Regarding Eligibility To Apply for Worker Adjustment Assistance

In accordance with Section 223 of the Trade Act of 1974, as amended (“Act”), 19 U.S.C. 2273, the Department of Labor issued a Certification of Eligibility to Apply for Worker Adjustment Assistance on December 22, 2010, applicable to workers of MeadWestvaco Corporation, Consumer and Office Products Division, including on-site leased workers from Pro-Tel People, Sidney, New York. The notice was published in the Federal Register on January 12, 2011 (762146).

At the request of the State Agency, the Department reviewed the certification for workers of the subject firm. The workers are engaged in the production of printed dated and undated planning and organizing products.

The review shows that on August 21, 2008, a certification of eligibility to apply for adjustment assistance was issued for all workers of MeadWestvaco, Consumer and Office Products Division, Sidney, New York, separated from employment on or after July 9, 2007 through August 21, 2010. The notice was published in the Federal Register on September 3, 2008 (73 FR 51529).

In order to avoid an overlap in worker group coverage, the Department is amending the June 21, 2009 impact date established for TA-W-74,296, to read August 22, 2010.

The amended notice applicable to TA-W-74,296 is hereby issued as follows:

All workers of MeadWestvaco Corporation, Consumer and Office Products Division, including on-site leased workers from Pro-Tel People, Sidney, New York, who became totally or partially separated from employment on or after August 22, 2010, through December 22, 2012, and all workers in the group threatened with total or partial separation from employment on date of certification through two years from the date of certification, are eligible to apply for adjustment assistance under Chapter 2 of Title II of the Trade Act of 1974, as amended.

Signed in Washington, DC, this 17th day of February 2011.
Michael W. Jaffe,
Certifying Officer, Office of Trade Adjustment Assistance.

[FR Doc. 2011-5925 Filed 3-14-11; 8:45 am]

BILLING CODE 4510-FN-P